DEPARTMENT OF EDUCATION

Office of Special Education and Rehabilitative Services.

AGENCY: Office of Special Education Programs, Department of Education.

ACTION: Notice of extension of project period and waiver.

SUMMARY: The Secretary waives the requirements in the Education Department General Administrative Regulations (EDGAR), at 34 CFR 75.250 and 75.261(a), respectively, that generally prohibit project periods exceeding 5 years and project extensions involving the obligation of additional Federal funds to enable the currently-funded Regional Resource Centers (RRCs) to receive funding from June 1, 2003 until May 31, 2004.

DATES: This notice is effective June 1, 2003.

FOR FURTHER INFORMATION CONTACT: Marie Roane, U.S. Department of Education, 400 Maryland Avenue, SW., room 3611, Switzer Building, Washington, DC 20202-2641. Telephone: (202) 205-8451.

If you use a telecommunications device for the deaf (TDD), you may call the Federal Information Relay Service (FIRS) at 1-800-877-8339.

Individuals with disabilities may obtain this document in an alternative format (e.g., Braille, large print, audiotape, or computer diskette) on request to the contact persons listed under FOR FURTHER INFORMATION CONTACT.

SUPPLEMENTARY INFORMATION:

Invitation to Comment

On March 31, 2003, we published a notice in the Federal Register (68 FR 15439-15440) proposing an extension of project period and waiver in order to—

(1) Give the current grantees early notice of the possibility that additional months of funding may be available through continuation awards; and

(2) Request comments on the proposed extension and waiver.

There are no differences between the notice of proposed extension and waiver and this notice of final extension and waiver.

Analysis of Comments and Changes

In response to the Assistant Secretary's invitation in the notice of proposed extension and waiver, three parties submitted comments. One party submitted comments in agreement with the proposal to extend the grant period of the current grantees. Two parties submitted comments opposing the proposed extension and waiver. Generally, we do not address technical and other minor changes, as well as suggested changes the law does not authorize us to make. Moreover, we do not address comments that do not express views on the substance of the proposed notice.

An analysis of the parties' comments opposing the proposed extension and waiver and our response follows.

Comment: One commenter stated that funding should be cut for the RRCs rather than waive the EDGAR requirement for a project period extension. The commenter further stated that it is more important to get services to children with disabilities and States than it is to have another intermediate intervening system.

Discussion: The existing RRCs are currently involved in carrying out activities related to the Office of Special Education Programs initiative to identify and disseminate alternative approaches to identifying children with disabilities. The Secretary believes that this is an important endeavor and the current RRCs have already conducted extensive training and information activities related to State implementation of IDEA and they are best suited to assist in efforts to provide or gather information related to the activities described in this notice.

Change: None.

Comment: One commenter stated that the proposed extension and waiver should not be approved. The commenter further stated that by granting the proposed extension and waiver, it curtails the current competitive system, and serves to reward current grantees without consideration of potential grantees that might better provide for current needs.

Discussion: The Secretary has determined that there is a critical need in the States for identifying and disseminating alternative approaches to identify children with learning disabilities. Waiting until after a new RRC competition would hinder the efforts that are in place. The Secretary believes that by providing continuous support to the existing grantees will avoid the disruption of activities that are currently taking place in the regions to address these needs.

Change: None.

Background

On February 24, 1998, we published in the Federal Register (63 FR 9376-9378) a notice inviting applications for new awards under the Regional Resource Center Program for fiscal year 1998. Based on this notice, the Department made six awards of 56 months under 34 CFR 75.105(c)(3) and the Individuals with Disabilities Education Act (IDEA). Section 685 of IDEA authorizes the Secretary to support the establishment of Regional Resource Centers (RRCs). These Centers provide technical assistance and information that support States and local agencies in building capacity to improve early intervention, educational, and transitional services and results for children with disabilities and their families, and address systemic-change goals and priorities. The grant period for the six centers ends May 31, 2003.

In order to carry out activities related to implementing an initiative of the Office of Special Education Programs (OSEP) to identify and disseminate alternative approaches to identifying children with learning disabilities, it is necessary to issue continuation awards to the existing grantees. Specifically, the current RRCs are helping to conduct a survey in each of their regions to collect information on the ways that States identify children with learning disabilities.

In particular, the Secretary plans for the RRCs to work with staff of OSEP, the Kennedy Center Research Program on Learning Accommodations for Individuals with Special Needs at Vanderbilt University, State educational agencies, regional in-state technical assistance systems and other State and local agencies to:

(1) Develop a coordinated plan for identifying sites within each RRC region using alternative approaches for identification of children with learning disabilities;

(2) Assist in efforts to provide or gather evidence of the value of more effective approaches for addressing the needs of children with learning disabilities; and

(3) Use research-based dissemination, training, and technical assistance to extend and increase effective practices in the area of learning disabilities.

The RRCs will also work with centers providing technical assistance to projects funded under the Training and Information for Parents of Children with Disabilities program to continue to foster improved collaboration on the No Child Left Behind Act of 2001 and IDEA, which will improve results for children with disabilities.

In addition, the Secretary plans for the RRCs to provide continued assistance to State educational agencies for Part B and the lead agencies for Part C in each region to support their implementation of continuous improvement and focused monitoring activities.

Reasons for Extension and Waiver

There is an immediate need to provide training and information to the populations that will be targeted by these efforts. Providing continuous support to existing grantees will help ensure the success of these efforts by avoiding the possible disruption or interruption of activities resulting from a change in grantees. Waiting until after a new RRC competition to begin this important work would severely hinder the Department's efforts to address the critical needs that are now present in the regions. The current RRCs have already conducted extensive training and information activities related to State implementation of the IDEA Amendments of 1997 and are best suited to conduct this effort. We have determined that an additional period of time is needed to begin the additional technical assistance and training activities described in this notice.

Therefore, the Secretary will issue continuation awards to the current grantees for twelve (12) months. A one-year time extension beginning June 1, 2003 thru May 31, 2004 is allowed to ensure the successful completion of the projects. The Secretary waives the requirements in 34 CFR 75.250 and 75.261(c)(2), which prohibit project periods exceeding 5 years and extensions that involve the obligation of additional Federal funds. This waiver gives the affected grantees early notice of the availability of an additional twelve months of funding.

Regulatory Flexibility Act Certification

The Secretary certifies that the extension of project period and waiver will not have a significant economic impact on a substantial number of small entities. The only small entities that would be directly affected are the six RRCs.

Paperwork Reduction Act of 1995

This extension of project period and waiver does not contain any information collection requirements.

Intergovernmental Review

This program is subject to the requirements of Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.access.gpo.gov/nara/index.html.

(Catalog of Federal Domestic Assistance Number 84.326, Technical Assistance and Dissemination to Improve Services and Results for Children with Disabilities.)

Dated: May 23, 2003.
Robert H. Pasternack,
Assistant Secretary for Special Education and, Rehabilitative Services.

[FR Doc. 03-13396 Filed 5-28-03; 8:45 am]

BILLING CODE 4000-01-P